DEPARTMENT OF ENERGY

Federal Energy Regulatory Commission

[Project No. 2533-058]

City of Brainerd and its Public Utilities Commission; Notice of Application for Amendment of License and Soliciting Comments, Motions To Intervene, and Protests

Take notice that the following hydroelectric application has been filed with the Commission and is available for public inspection:

a. Application Type: Amendment of License.

b. Project No: 2533-058.

c. Date Filed: July 31, 2014.

d. Applicant: City of Brainerd and its Public Utilities Commission.

e. Name of Project: Brainerd Hydroelectric Project.

f. Location: The project is on the Mississippi River in Crow Wing County, Minnesota.

g. Filed Pursuant to: Federal Power Act, 16 U.S.C. 791a-825r.

h. Applicant Contact: Arie DeWaal, Mead & Hunt, Inc., 10700 West Research Drive, Suite 155, Wauwatosa, Wisconsin 53226, Phone: 262-790-0232.

i. FERC Contact: M. Joseph Fayyad at (202) 502-8759, or email: mo.fayyad@ferc.gov.

j. Deadline for filing comments, motions to intervene, and protests: 30 days from issuance date of this notice by the Commission.

The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2533-058.

k. Description of Amendment: As licensed, the project's 425-foot-long primary transmission line segment and related electrical facilities extend to a point of connection with an adjacent paper mill. The licensee proposes to relocate the transmission line connection with the power grid to the nearby North River Bank substation. The new transmission line system will be approximately 400 feet in length and consists of three 2.4-kV lines. Also, the licensee proposes to expand the project boundary to connect to the public Right-of-Way (i.e., County Road 20, Riverside Drive) along the existing service road down to the west embankment of the dam. A similar project boundary expansion to the public Right-of-Way is at Lum Park and at the French Rapids site.

l. Locations of the Application: This filing may be viewed on the Commission's Web site at http://www.ferc.gov/docs-filing/elibrary.asp. Enter the docket number P-2533 in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: October 22, 2014.
Kimberly D. Bose,
Secretary.

[FR Doc. 2014-25624 Filed 10-28-14; 8:45 am]

BILLING CODE 6717-01-P